UNIFIED CARRIER REGISTRATION PLAN

Sunshine Act; Meeting

TIME AND DATE: June 7, 2022, 1 p.m. to 5 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 954 6813 9784, to listen and participate in this meeting. The website to participate via Zoom Meeting and Screenshare is https://kellen.zoom.us/meeting/register/tJEpceGprTItEtA1WfDtozO5u4kGtHY5U71g.

STATUS: This meeting will be open to the public.

MATTERS TO BE CONSIDERED: The Unified Carrier Registration Plan Board of Directors (the “Board”) will continue its work in developing and implementing the Unified Carrier Registration Plan and Agreement. The subject matter of this meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the April 21, 2022 UCR Board Meeting—UCR Board Chair

For Discussion and Possible Board Action

Draft Minutes from the April 21, 2022 UCR Board meeting will be reviewed. The Board will consider action to approve.

V. Report of FMCSA—FMCSA Representative

The Federal Motor Carrier Safety Administration (FMCSA) will provide a report on relevant activity.

VI. Development, Hosting and Maintenance of an IRP Centralized Fee Calculator—UCR Executive Director

The UCR Executive Director will provide an update regarding the option of development, hosting and maintenance of a centralized IRP fee calculator for the purpose of continuing the Board's progress towards increasing UCR compliance and enhanced data sharing.

VII. Letter of Recommendation to Congress To Approve Legislation Pertaining To Providing Additional Parking to Motor Carriers—Monte Wiederhold, Board Member

For Discussion and Possible Board Action

UCR Board Member Monte Wiederhold will discuss the issue of the lack of parking for motor carriers along highways and pending legislation before the United States Congress to alleviate the problem. The Board may consider and take action to authorize the UCR Board Chair to draft, sign, and send a letter to Congress recommending approval of such legislation.

VIII. Subcommittee Reports

Audit Subcommittee—UCR Audit Subcommittee Chair

A. 2021 Annual State Audit Progress Report to the UCR Board of Directors—UCR Audit Subcommittee Chair

For Discussion and Possible Board Action

The Audit Subcommittee Chair will discuss the current status of participating states' audit programs for the 2021 registration year as required by the UCR Agreement. The UCR Audit Subcommittee Chair will recommend corrective action plans for delinquent states. The Board may consider and take action to approve such plans as recommended.

B. Discussion Regarding Ways and Means To Increase UCR Registration Percentages—UCR Audit Subcommittee Chair

The UCR Audit Subcommittee Chair will lead a discussion to share state resources (auditors and other contacts), leveraging partner relationships, auditing tools and other ideas to increase UCR registration percentages to promote improving fairness within the industry.

C. Maximizing the Value of the Should Have Been (SHB) and Enforcement Efficiency Tools—UCR Audit Subcommittee Chair and DSL Transportation Services, Inc. (DSL)

The Subcommittee Chair and DSL will provide an update on the value achieved by utilizing the Shadow MCMIS and other tools in the National Registration System (NRS). The discussion will highlight the financial value to the states by vetting businesses for UCR compliance, commercial registration, IFTA, intrastate, and interstate operating authority.

D. Dedicating a Full-Time Employee (FTE) to States' Audit Programs—UCR Audit Subcommittee Chair, UCR Audit Subcommittee Vice-Chair, and DSL

The UCR Audit Subcommittee Chair, UCR Audit Subcommittee Vice-Chair and DSL will lead a discussion regarding the value of dedicating 1 FTE to each state's UCR compliance efforts including solicitations (new entrants and unregistered entities), Focused Anomaly Reviews (FAR), retreat and vehicle inspection audits, Shadow MCMIS, and SHB tools in the NRS.

E. Updates to the UCR Handbook—UCR Audit Subcommittee Chair, and UCR Executive Director

The UCR Audit Subcommittee Chair and UCR Executive Director will lead a discussion on updating and clarifying the language in the UCR Handbook in regard to the usage of the term “operated” as it relates to a motor carrier beginning operations. A general update on other revisions to the UCR Handbook will also be provided.

F. Accounting for Unregistered Motor Carriers in Brackets 5 and 6—UCR Audit and Finance Subcommittee Chairs

There are a number of motor carriers in brackets 5 and 6 that have not registered for UCR that appear, in many, but not in all cases to have incorrectly overstated on their MCS-150 the number of vehicles in their fleet or have an inactive authority. The UCR Audit and Finance Subcommittee Chairs will lead a discussion on ideas to account for the status of these motor carriers.

Finance Subcommittee—UCR Finance Subcommittee Chair

A. Certificate of Deposit (CD) for Financial Reserve—Finance Subcommittee Chair and UCR Depository Manager

For Discussion and Possible Board Action

The UCR Finance Subcommittee Chair and UCR Depository Manager will present and discuss options for investing the proceeds from a CD that will mature on August 5, 2022. The Board may consider and approve an option for re-investing the proceeds from the maturing CD.

B. Investment Options for 2021 and 2022 Excess Fees—UCR Finance Subcommittee Chair and UCR Depository Manager

For Discussion and Possible Board Action

The UCR Finance Subcommittee Chair and UCR Depository Manager will present the balances of excess fees from the 2021 and 2022 registration years. They will also discuss potential options for safely investing the funds to earn reasonable rates of return that will exceed interest earnings on standard bank deposit accounts. The Board may consider and approve an option for investing the excess fees.

C. Update on Response From UCR to the FMCSA's Request for Information Regarding the UCR Board's Fee Recommendation for the 2023 Registration Year—UCR Finance Subcommittee Chair, UCR Chief Legal Officer and UCR Depository Manager

The UCR Finance Subcommittee Chair, UCR Chief Legal Officer and UCR Depository Manager will provide an update to the UCR Board regarding the response provided to FMCSA from their request for information pertaining to the Board's fee change recommendation, and subsequent comment, for the 2023 registration year.

D. Update on Potential 2024 Fee Recommendation—UCR Finance Subcommittee Chair and UCR Depository Manager

The UCR Finance Subcommittee Chair and UCR Depository Manager will provide an update to the UCR Board regarding the methodology, process, and timing for a potential fee recommendation to the Secretary of the U.S. Department of Transportation and FMCSA for the 2024 registration year.

Education and Training Subcommittee—UCR Education and Training Subcommittee Chair

Update on Current and Future Training Initiatives—UCR Education and Training Subcommittee Chair and UCR Operations Manager

The Education and Training Subcommittee Chair and the UCR Operations Manager will provide an update on the current and planned future training initiatives for the UCR Plan.

IX. Contractor Reports—UCR Executive Director

• UCR Executive Director's Report

The UCR Executive Director will provide a report covering recent activity for the UCR Plan.

• DSL Transportation Services, Inc.

DSL Transportation Services, Inc. will report on the latest data from the FARs program, discuss motor carrier inspection results, pilot projects and other matters.

• Seikosoft

Seikosoft will provide an update on recent/new activity related to the NRS.

• UCR Administrator Report (Kellen)

The UCR Staff will provide a management report covering recent activity for the Depository, Operations, and Communications.

X. Other Business—UCR Board Chair

The UCR Board Chair will call for any other business, old or new, from the floor.

XI. Adjournment—UCR Board Chair

The UCR Board Chair will adjourn the meeting.

The agenda will be available no later than 5 p.m. Eastern time, June 1, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-12321 Filed 6-3-22; 11:15 am]

BILLING CODE 4910-YL-P